DEPARTMENT OF AGRICULTURE

Food and Nutrition Service

Agency Information Collection Activities: Recordkeeping for Employment and Training Program Activity Report and Requests for Additional 100 Percent Funding

AGENCY: Food and Nutrition Service (FNS), USDA.

ACTION: Notice.

SUMMARY: In accordance with the Paperwork Reduction Act of 1995, this notice invites the general public and other public agencies to comment on this proposed information collection for the revision of a currently approved collection for the Supplemental Nutrition Assistance Program (SNAP) Employment and Training (E&T) Program Activity Report (form FNS-583) and State requests for additional funding. The Employment and Training Opportunities in the Supplemental Nutrition Assistance Program final rule modified the regulations to introduce priorities for reallocation of 100 percent funds and to specify that State agencies requesting additional funds should submit the requests for the upcoming fiscal year with the E&T State Plans. Requests and recordkeeping for these activities are currently approved under OMB No. 0584-0339, expiration date 03/31/2024. The burden estimate is 49.51 hours. The burden estimate is not impacted by these changes. FNS is not seeking comment on the reporting burden for the FNS-583 because that is under FNS' web-based Food Program Reporting System, OMB Control No: 0584-0594, expiration date 7/31/2023 (currently under review).

DATES: Written comments must be received on or before October 6, 2023.

ADDRESSES: Comments may be sent to: Marcie Foster, Food and Nutrition Service, U.S. Department of Agriculture, 1320 Braddock Place, Alexandria, VA 22314. Comments may also be submitted via email to marcie.foster@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Marcie Foster at 703-305-2930.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Employment and Training Program Activity Report and Requests for Additional 100 percent Funding.

Form Number: FNS-583.

OMB Number: 0584-0339.

Expiration Date: 03/31/2024.

Type of Request: Revision of a currently approved collection.

Abstract: 7 CFR 273.7(c)(9) requires State agencies to maintain quarterly E&T Program Activity Reports containing monthly figures for participation in the program. FNS uses Form FNS-583 to provide the format for this data. State agencies report this data using the online Food Program Reporting System (FPRS, OMB Control No: 0584-0594; Expiration date: 07/31/2023). State agencies must maintain records in order to support data reported in FPRS. The information collected on the FNS-583 report includes:

• On the first quarter report, the number of work registrants receiving SNAP as of October 1 of the new fiscal year;

• On each quarterly report, by month, the number of new work registrants; the number of able-bodied adults without dependents (ABAWDs) applicants and recipients participating in qualifying components; the number of all other applicants and recipients (including ABAWDs involved in non-qualifying activities) participating in components; and the number of ABAWDs exempt under the State agency's 15 percent exemption allowance;

• On the fourth quarter report, the total number of individuals, sorted by ABAWD and non-ABAWD participants, who participated in each component; the number of individuals who participated in the E&T Program during the fiscal year; the number of SNAP participants and applicants required by the State agency to participate in E&T and of those the number who began participation in an E&T program and the number who began participation in an E&T component; and number of mandatory E&T participants who were determined ineligible for failure to comply with E&T requirements. Additionally, State agencies have the option to report the number of individuals provided with case management services.

7 CFR 273.7(d)(1)(iii) provides that if a State agency will not expend all of the funds allocated to it for a fiscal year, FNS will reallocate unexpended funds to other State agencies requesting additional funds during the fiscal year or the subsequent fiscal year as FNS considers appropriate and equitable in accordance with a priority for funding requests process stipulated in 7 CFR 237.7(d)(1)(iii)(A)-(D).

7 CFR 273.7(d)(1)(iii)(E) specifies that State agencies should submit their request for additional funds with the E&T State Plans for the upcoming Federal Fiscal Year (FFY). The requests should indicate the priority category funds are requested; the amount requested; provide a detailed plan for the use of additional funds; and indicate how the use of the additional funds will support E&T programs and activities that have a demonstrable impact on the ability of participants to find and retain employment that leads to increased household income and reduced reliance on public assistance. Typically, FNS receives eighteen such requests per year. The time it takes to prepare these requests is included in the burden. After receiving the State requests, FNS will reallocate unexpended funds as provided above. The following is the estimated burden for E&T reporting including the burden for State agencies to request additional funds.

Affected Public: State, local and Tribal government. Respondent groups identified include State agencies administering the SNAP E&T program in 50 States, the District of Columbia, Guam, and the U.S. Virgin Islands.

Estimated Number of Respondents: The total estimated number of respondents annually for the recordkeeping burden of the FNS-583 is 53 State agencies, including the agencies responsible for SNAP administration in 50 States, the District of Columbia, Guam, and the U.S. Virgin Islands. The estimated number of respondents for requesting additional funds and maintaining records to support these requests is 18 per year.

Estimated Number of Responses per Respondent: The 53 States agencies are required to submit data on the FNS-583 quarterly. State agencies will be required to maintain data to support 4 reports per year.

The State agencies requesting additional funds typically do so once per year.

Estimated Total Annual Responses: 248.

Estimated Time per Response: The estimated time of response varies from 8 to 60 minutes depending on respondent group, as shown in the table below, with an average estimated time of .199 hours per response.

Estimated Total Annual Burden on Respondents: 2,971 minutes (49.51 hours). See the table below for estimated total annual burden for each type of respondent.

Total Annual Reporting and Recordkeeping Burden
[Compiling and Reporting for the FNS-583 and Requests for More Funding SNAP Employment and Training Program Activity Report]
Section of regulation | Title | Number of respondents | Reports filed annually | Total responses (C × D) | Estimated number of hours per response | Estimated total hours (C × D × F)
A | B | C | D | E | F | G
REPORTING
7 CFR 273.7(d)(1)(i)(F) | Preparing requests for more funds after initial allocation | 18 | 1 | 18 | 1 | 18
Total Reporting Additional Funds Requests |  | 18 | 1 | 18 | 1 | 18
RECORDKEEPING
7 CFR 277.12 | Recordkeeping burden for FNS-583 | 53 | 4 | 212 | 0.137 | 29.04
7 CFR 277.12 | Recordkeeping burden for additional requests | 18 | 1 | 18 | 0.137 | 2.47
Total Recordkeeping Burden for FNS 583 and Additional Funds Requests |  | 53 | 4.34 | 230 | 0.137 | 31.51
SUMMARY
Total all burdens |  | 53 | 4.679 | 248 | 0.199 | 49.51

Tameka Owens,
Assistant Administrator, Food and Nutrition Service.

[FR Doc. 2023-16807 Filed 8-4-23; 8:45 am]

BILLING CODE 3410-30-P